DEPARTMENT OF COMMERCE

International Trade Administration

[C-570-915]

Light-Walled Rectangular Pipe and Tube From the People's Republic of China: Final Results of Countervailing Duty Administrative Review and Final Determination of No Shipments; 2022

AGENCY: Enforcement and Compliance, International Trade Administration, Department of Commerce.

SUMMARY: The U.S. Department of Commerce (Commerce) determines that Hoa Phat Steel Pipe Company Limited (Hoa Phat) had no shipments of light-walled rectangular pipe and tube (LWRPT) from the People's Republic of China (China) during the period of review (POR) January 1, 2022, through December 31, 2022. Further, going forward, Hoa Phat will be eligible to participate in the certification program previously established with respect to the countervailing duty (CVD) order on LWRPT from China.

DATES: Applicable May 5, 2025.

FOR FURTHER INFORMATION CONTACT: Rebecca M. Janz, AD/CVD Operations, Office II, Enforcement and Compliance, International Trade Administration, Department of Commerce, 1401 Constitution Avenue NW, Washington, DC 20230; telephone: (202) 482-2972.

SUPPLEMENTARY INFORMATION:

Background

On September 13, 2024, Commerce published the Preliminary Results, in which we adopted the preliminary finding in the concurrent antidumping duty (AD) administrative review and explained that, if our preliminary finding in the concurrent AD administrative review is unchanged in the final results, we would determine in the final results of this CVD administrative review that Hoa Phat is eligible to participate in the certification program previously established with respect to the Order as of the publication date of the final results.¹ We invited interested parties to comment on the Preliminary Results.²

¹ See Light-Walled Rectangular Pipe and Tube from the People's Republic of China: Preliminary Results and Preliminary Determination of No Shipments; 2022, 89 FR 74904 (September 13, 2024) (Preliminary Results); see also Light-Walled Rectangular Pipe and Tube from the People's Republic of China: Countervailing Duty Order, 73 FR 45405 (August 5, 2008) (Order).

² See Preliminary Results.

From November 18, through November 20, 2024, Commerce conducted an on-site verification of the information submitted on the record of this review by Hoa Phat in the Socialist Republic of Vietnam (Vietnam).³ On December 9, 2024, Commerce tolled certain deadlines in this administrative proceeding by 90 days.⁴ On January 30, 2025, Commerce released the verification report for Hoa Phat and established deadlines for submitting comments on the Preliminary Results.⁵ On March 14, 2025, Commerce issued a memorandum clarifying that the findings in these final results of review with respect to Hoa Phat, specifically that Hoa Phat's ability to certify as to the origin of the hot-rolled steel (HRS) used to produce LWRPT in Vietnam, applies to the Korea AD Order and the Taiwan AD Order, and we invited parties to comment.⁶ No parties commented on the Preliminary Results, the verification report, or Commerce's Eligibility to Certify Memorandum. On April 11, 2025, we extended the deadline for the final results of this review by 30 days.⁷ Accordingly, the deadline for these final results is now May 12, 2025.

³ See Memorandum, “Placing on the Record the Verification Report of the Antidumping Duty Administrative Review of Light-Walled Rectangular Pipe and Tube from the People's Republic of China; 2022-2023,” dated January 31, 2025 (Hoa Phat Verification Report).

⁴ See Memorandum, “Tolling of Deadline for Antidumping and Countervailing Duty Proceedings,” dated December 9, 2024.

⁵ See Hoa Phat Verification Report; see also Memorandum, “Notification of Briefing Schedule in the Antidumping Duty Administrative Review of Light-Walled Rectangular Pipe and Tube from the People's Republic of China; 2022-2023,” dated January 31, 2025.

⁶ See Memorandum, “Intent to Apply Hoa Phat's Eligibility to Certify Under the Countervailing Duty Order on Light-Walled Rectangular Pipe and Tube from the People's Republic of China, and the Antidumping Duty Orders on Light-Walled Rectangular Carbon Steel Tubing from Taiwan and Light-Walled Rectangular Pipe and Tube from the Republic of Korea,” dated March 14, 2025 (Eligibility to Certify Memorandum); see also Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403 (August 5, 2008) (Korea AD Order); and Antidumping Duty Order; Light-Walled Welded Rectangular Carbon Steel Tubing from Taiwan, 54 FR 12467 (March 27, 1989) (Taiwan AD Order).

⁷ See Memorandum, “Extension of Deadline for the Final Results of the Countervailing Duty Administrative Review,” dated April 11, 2025.

Scope of the Order ⁸

⁸ See Order.

The merchandise subject to this Order is certain welded carbon quality light-walled steel pipe and tube, of rectangular (including square) cross section, having a wall thickness of less than 4 mm. The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to this Order is currently classified under the Harmonized Tariff Schedule of the United States (HTSUS) subheadings 7306.61.50.00 and 7306.61.70.60. While HTSUS subheadings are provided for convenience and customs purposes, our written description of the scope of the Order is dispositive.

Methodology

Commerce conducted this administrative review in accordance with section 751(a)(1)(A) of Tariff Act of 1930, as amended (the Act).

As no parties commented on the Preliminary Results, the verification report, or Commerce's Eligibility to Certify Memorandum, we have adopted the Preliminary Results as these final results, and no decision memoranda accompany this Federal Register notice.

We continue to find that Hoa Phat is eligible to certify the origin of the HRS that it uses to produce LWRPT in Vietnam and participate in the certification program previously established with respect to the Order.

Final Determination of No Shipments of Subject Merchandise

Consistent with the Preliminary Results, we continue to adopt the findings in the concurrent AD review and to determine that the sole respondent under review, Hoa Phat, supported its claim that the LWRPT it produced in Vietnam and exported to the United States during the POR is non-subject LWRPT. Specifically, in the concurrent AD administrative review, Commerce determined that Hoa Phat only used HRS from Vietnamese HRS producers to produce its exports of LWRPT that entered the United States during the POR.⁹ Thus, Commerce's Preliminary Results are unchanged for these final results.

⁹ See unpublished Federal Register Notice entitled, “Light-Walled Rectangular Pipe and Tube from the People's Republic of China: Final Results of Antidumping Duty Administrative Review; 2022-2023,” dated concurrently with this notice.

Eligibility To Certify

Commerce hereby determines that Hoa Phat is eligible to participate in the certification program established in the China Circumvention Determination because Hoa Phat records the origin of its HRS purchases in its books and records, and Hoa Phat is able to trace through its production processes the origin of the HRS used to produce LWRPT exported to the United States.¹⁰ As Commerce states in the Hoa Phat Verification Report, Hoa Phat company officials showed verifiers how they are able to track HRS through their entire production system.¹¹ We further determine that Hoa Phat's eligibility to participate in the certification program based on the China Circumvention Determination is effective as of the date of publication of these final results in the Federal Register.¹²

¹⁰ See Hoa Phat Verification Report at 5-6 and 8-10.

¹¹ Id. at 6.

¹² See Light-Walled Rectangular Pipe and Tube from the People's Republic of China: Final Affirmative Determination of Circumvention of the Antidumping Duty and Countervailing Duty Orders, 88 FR 77283 (November 9, 2023) (China Circumvention Determination), and accompanying Issues and Decision Memorandum (IDM).

Disclosure

Because we have not modified our analysis from the Preliminary Results, there are no calculations to disclose for the final results.

LWRPT Finished in Vietnam

Based on the affirmative country-wide determinations of circumvention for Vietnam in the China Circumvention Determination, in accordance with 19 CFR 351.226(1)(3), we directed U.S. Customs and Border Protection (CBP) to suspend liquidation and require a cash deposit of estimated duties on unliquidated entries of LWRPT completed in Vietnam using China-origin HRS that were entered, or withdrawn from warehouse, for consumption on or after the date of publication of the initiation of the circumvention inquiry in the Federal Register.¹³

¹³ Id., 88 FR 77284.

If an importer enters into the United States LWRPT produced in Vietnam and claims that the LWRPT was not produced from China-origin HRS ¹⁴ or, alternatively, claims that the LWRPT was produced using an input other than HRS, the importer and exporter are required to meet the certification and documentation requirements described in the “Certifications” and “Certification Requirements” sections of the China Circumvention Determination to not be subject to the cash deposit requirements of the Order.¹⁵

¹⁴ We note that Hoa Phat claimed, and we confirmed, that the HRS that Hoa Phat used in the production of its entries of LWRPT sold to the United States during the POR are made only of HRS produced in Vietnam and no other country.

¹⁵ See China Circumvention Determination, 88 FR 77284-85 (explaining the certification requirements) and 88 FR 77286-87 (providing the required importer and exporter certifications).

Assessment of Countervailing Duties

Commerce shall determine, and CBP shall assess, countervailing duties on all appropriate entries covered by this review, pursuant to section 751(a)(2)(C) of the Act and 19 CFR 351.212(b)(2). Because we find that all the suspended entries of LWRPT produced or exported by Hoa Phat during the POR are not subject to the Order, we intend to instruct CBP to liquidate such entries of LWRPT without regard to countervailing duties. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Suspension of Liquidation and Cash Deposit Requirements

For LWRPT produced in China, the final results of this review do not alter the previous suspension of liquidation and cash deposit requirements.¹⁶ Further, for LWRPT produced in Vietnam by a company other than Hoa Phat, the suspension of liquidation and cash deposit requirements established in the China Circumvention Determination remain unchanged.¹⁷

¹⁶ See Order. Commerce has not conducted any administrative reviews of the Order. See Light-Walled Rectangular Pipe and Tube from the People's Republic of China: Final Results of the Expedited Second Five-Year Sunset Review of the Countervailing Duty Order, 84 FR 45726 (August 30, 2019), and accompanying IDM at 3.

¹⁷ See China Circumvention Determination, 88 FR 77284-85;

For LWRPT from Vietnam produced or exported by Hoa Phat, these final results of review revise the suspension of liquidation and cash deposit instructions established in the China Circumvention Determination. Specifically, Hoa Phat is now permitted to participate in the certification program established in the China Circumvention Determination as either a producer or exporter of LWRPT from Vietnam, and other parties that export LWRPT from Vietnam produced by Hoa Phat are also eligible to participate in the certification program. Commerce has established the following company-specific third country CBP case number for Hoa Phat in the Automated Commercial Environment for entries of LWRPT from Vietnam: C-552-915-001.

If the exporter or the importer fails to properly certify that an entry of LWRPT produced by Hoa Phat in Vietnam was not produced using China-origin HRS, then Commerce intends to instruct CBP to suspend the liquidation of the entry of such LWRPT under CBP case number C-552-915-001 and require a cash deposit for estimated countervailing duties at the rate of 15.28 percent.¹⁸ If the exporter and the importer properly certify that an entry of LWRPT produced by Hoa Phat in Vietnam was not produced using China-origin HRS, then Commerce intends to instruct CBP that the entry is not subject to the Order.

¹⁸ No countervailable subsidy rate was calculated as part of these final results for Hoa Phat, and, therefore, its cash deposit rate for estimated countervailing duties continues to be the rate established in the China Circumvention Determination. See China Circumvention Determination, 88 FR 77284.

These suspension of liquidation and cash deposit requirements, when imposed, shall remain in effect until further notice. Failure to comply with the applicable requisite certification requirements may result in the merchandise being subject to countervailing duties.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing occurred and the subsequent assessment of double antidumping duties, and/or an increase in the amount of antidumping duties by the amount of the countervailing duties.

Administrative Protective Order (APO)

This notice also serves as a reminder to parties subject to an APO of their responsibility concerning the destruction or return of proprietary information disclosed under APO in accordance with 19 CFR 351.305(a)(3), which continues to govern business proprietary information in this segment of the proceeding. Timely written notification of the destruction or return of APO materials or conversion to judicial protective order is hereby requested. Failure to comply with the regulations and terms of an APO is a sanctionable violation.

Notification to Interested Parties

We are issuing and publishing these final results of review and this notice in accordance with sections 751(a)(1) and 777(i)(1) of the Act, and 19 CFR 351.213(h) and 351.221(b)(5).

Dated: April 29, 2025.
Christopher Abbott,
Deputy Assistant Secretary for Policy and Negotiations, performing the non-exclusive functions and duties of the Assistant Secretary for Enforcement and Compliance.

[FR Doc. 2025-07783 Filed 5-2-25; 8:45 am]

BILLING CODE 3510-DS-P